DEPARTMENT OF HEALTH AND HUMAN SERVICES

Centers for Disease Control and Prevention

National Institute for Occupational Safety and Health (NIOSH)Advisory Board on Radiation and Worker Health (ABRWH or Advisory Board)

In accordance with section 10(a)(2) of the Federal Advisory Committee Act (Pub. L. 92-463), the Centers for Disease Control and Prevention announces the following committee meeting:

Name: Advisory Board on Radiation and Worker Health, National Institute for Occupational Safety and Health.

Committee Meeting Times and Dates:

8 a.m.-5 p.m., May 2, 2007.

8 a.m.-5:30 p.m., May 3, 2007.

8 a.m.-12:15 p.m., May 4, 2007.

Public Comment Times and Dates:

5 p.m.-6 p.m., May 2, 2007.

7:30 p.m.-9 p.m., May 3, 2007.

Place: Westin Westminster, 10600 Westminster Boulevard, Westminster, Colorado 80020, Phone 303.410.5000, Fax 303.410.5005.

Status: Open to the public, limited only by the space available. The meeting space accommodates approximately 75 people.

Background: The Advisory Board was established under the Energy Employees Occupational Illness Compensation Program (EEOICP) Act of 2000 to advise the President on a variety of policy and technical functions required to implement and effectively manage the new compensation program. Key functions of the Advisory Board include providing advice on the development of probability of causation guidelines which have been promulgated by the Department of Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC).

In December 2000, the President delegated responsibility for funding, staffing, and operating the Advisory Board to HHS, which subsequently delegated this authority to CDC. NIOSH implements this responsibility for CDC. The charter was issued on August 3, 2001, renewed at appropriate intervals, and will expire on August 3, 2007.

Purpose: This Advisory Board is charged with (a) providing advice to the Secretary, HHS, on the development of guidelines under Executive Order 13179; (b) providing advice to the Secretary, HHS, on the scientific validity and quality of dose reconstruction efforts performed for this program; and (c) upon request by the Secretary, HHS, advising the Secretary on whether there is a class of employees at any Department of Energy facility who were exposed to radiation but for whom it is not feasible to estimate their radiation dose, and on whether there is reasonable likelihood that such radiation doses may have endangered the health of members of this class.

Matters To Be Discussed: The agenda for the Advisory Board meeting includes SEC Petitions for Rocky Flats, Los Alamos National Laboratory, Bethlehem Steel, Sandia National Lab-Livermore, WR Grace, Dow, Y-12 and Chapman Valve; Use of Data from “Other” Sites; Global Science Issues including OroNasal Breathing, Ingestion, and Welding Rods; Program Updates from NIOSH, Department of Energy, and Department of Labor; Selection of 8th Round of Individual Dose Reconstructions for Review; Timeliness in the Energy Employees Occupational Illness Compensation Program (EEOICP); Working Group Updates; and Board Working Time.

The agenda is subject to change as priorities dictate. In the event an individual cannot attend, written comments may be submitted. Any written comments received will be provided at the meeting and should be submitted to the contact person below well in advance of the meeting.

For Further Information Contact: Dr. Lewis V. Wade, Executive Secretary, NIOSH, CDC, 4676 Columbia Parkway, Cincinnati, Ohio 45226, Telephone 513.533.6825, Fax 513.533.6826.

The Director, Management Analysis and Services Office, has been delegated the authority to sign Federal Register notices pertaining to announcements of meetings and other committee management activities, for both CDC and the Agency for Toxic Substances and Disease Registry.

Dated: April 10, 2007.
Elaine L. Baker,
Acting Director, Management Analysis and Services Office, Centers for Disease Control and Prevention.

[FR Doc. E7-7253 Filed 4-16-07; 8:45 am]

BILLING CODE 4163-18-P